SMALL BUSINESS ADMINISTRATION

[Disaster Declaration #12505 and #12506]

California Disaster #CA-00167

AGENCY: U.S. Small Business Administration.

ACTION: Notice.

SUMMARY: This is a notice of an Administrative declaration of a disaster for the State of California dated 03/29/2011.

Incident: Honshu Tsunami.

Incident Period: 03/11/2011.

Effective Date: 03/29/2011.

Physical Loan Application Deadline Date: 05/31/2011.

Economic Injury (EIDL) Loan Application Deadline Date: 12/29/2011.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the Administrator's disaster declaration, applications for disaster loans may be filed at the address listed above or other locally announced locations.

The following areas have been determined to be adversely affected by the disaster:

Primary Counties: Del Norte.

Contiguous Counties:

California: Humboldt, Siskiyou.

Oregon: Curry, Josephine.

The Interest Rates are:

| Percent
For Physical Damage:
Homeowners With Credit Available Elsewhere | 5.125
Homeowners Without Credit Available Elsewhere | 2.563
Businesses With Credit Available Elsewhere | 6.000
Businesses Without Credit Available Elsewhere | 4.000
Non-Profit Organizations With Credit Available Elsewhere | 3.250
Non-Profit Organizations Without Credit Available Elsewhere | 3.000
For Economic Injury:
Businesses & Small Agricultural Cooperatives Without Credit Available Elsewhere | 4.000
Non-Profit Organizations Without Credit Available Elsewhere | 3.000

The number assigned to this disaster for physical damage is 12505 E and for economic injury is 12506 0.

The States which received an EIDL Declaration # are California, Oregon.

(Catalog of Federal Domestic Assistance Numbers 59002 and 59008)

Dated: March 29, 2011.
Karen G. Mills,
Administrator.

[FR Doc. 2011-7953 Filed 4-1-11; 8:45 am]

BILLING CODE 8025-01-P